DEPARTMENT OF HOMELAND SECURITY

Coast Guard

[Docket No. USCG-2013-0884]

Merchant Marine Personnel Advisory Committee

AGENCY: Coast Guard, DHS.

ACTION: Notice of Federal Advisory Committee Teleconference Meeting.

SUMMARY: The Merchant Marine Personnel Advisory Committee (MERPAC) will meet on November 14, 2013 via teleconference, to discuss Task Statement 85, Review of Draft Update to Marine Safety Manual (Volume III), Chapters 20 through 26. This meeting will be open to the public.

DATES: The teleconference meeting will take place on November 14, 2013, from 1 p.m. until 3 p.m. EST. Please note that this meeting may adjourn early if all business is finished.

ADDRESSES: To participate by phone, contact the Alternate Designated Federal Officer (ADFO) listed below in the FOR FURTHER INFORMATION CONTACT section to obtain teleconference information. Note the number of teleconference lines is limited and will be available on a first-come, first-served basis. To join those participating in this teleconference from U.S. Coast Guard Headquarters, come to Room 6J07-02, 2703 Martin Luther King Jr. Ave. SE., Washington, DC 20593-7509. Due to security at the new Headquarters building, members of the public wishing to attend should register with Mr. Gerald Miante, ADFO of MERPAC, at (202) 372-1407 or gerald.p.miante@uscg.mil no later than November 7, 2013. All visitors to Coast Guard Headquarters must provide identification in the form of a Government issued picture identification card for access to the facility. Please arrive at least 30 minutes before the planned start of the meeting in order to pass through security.

For information on facilities or services for individuals with disabilities or to request special assistance, contact Mr. Gerald Miante at 202-372-1407 or at gerald.p.miante@uscg.mil as soon as possible.

To facilitate public participation, we are inviting public comment on the issues to be considered by the committee as listed in the “Agenda” section below. Written comments for distribution to committee members and inclusion on the MERPAC Web site must be submitted on or before November 7, 2013.

Written comments must be identified by Docket No. USCG-2013-0884 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329. Instructions: All submissions received must include the words “Department of Homeland Security” and the docket number for this action. Comments received will be posted without alteration at http://regulations.gov, including any personal information provided. You may review a Privacy Act notice regarding our public dockets in the January 17, 2008, issue of the Federal Register (73 FR 3316). Docket: For access to the docket to read documents or comments related to this notice, go to http://www.regulations.gov, enter the docket number in the “Search” field and follow the instructions on the Web site.

A public oral comment period will be held after the working group report. Speakers are requested to limit their comments to 3 minutes. Please note that the public oral comment period may end before the prescribed ending time following the last call for comments. Contact Gerald Miante as indicated above no later than November 7, 2013, to register as a speaker. This notice may be viewed in our online docket, USCG-2013-0884, at http://www.regulations.gov.

FOR FURTHER INFORMATION CONTACT: Mr. Gerald Miante, Alternate Designated Federal Officer (ADFO), telephone 202-372-1407, or at gerald.p.miante@uscg.mil.

If you have any questions on viewing or submitting material to the docket, call Barbara Hairston, Program Manager, Docket Operations, telephone 202-366-9826.

SUPPLEMENTARY INFORMATION: Notice of this meeting is given under the Federal Advisory Committee Act (FACA), Title 5, United States Code (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil by using these key strokes: Missions; Port and Waterways Safety; Advisory Committees; MERPAC; and then use the Announcements key. Alternatively, you may contact Mr. Miante as noted in the ADDRESSES section above.

Agenda

The agenda for the November 14, 2013 committee teleconference meeting is as follows:

(1) Introduction;

(2) Roll call of committee members and determination of a quorum;

(3) Designated Federal Officer (DFO) announcements;

(4) Reports from the Task Statement 85 working group, concerning Review of Draft Update to Marine Safety Manual (Volume III), Chapters 20 through 26.

(5) Public comment period/presentations.

(6) Discussion of working group recommendations. The committee will review the information presented on this issue, deliberate on any recommendations presented by the working group and approve/formulate recommendations for the Department's consideration. Official action on these recommendations may be taken on this date.

(7) Closing remarks.

(8) Adjournment of meeting.

Dated: October 10, 2013.
J. G. Lantz,
Director of Commercial Regulations and Standards.

[FR Doc. 2013-24747 Filed 10-22-13; 8:45 am]

BILLING CODE 9110-04-P